DEPARTMENT OF ENERGY

Federal Energy Regulatory Commission

[Docket No. RP03-599-000]

Eastern Shore Natural Gas Company; Notice of Petition for Waiver

September 10, 2003.

Take notice that on September 3, 2003, Eastern Shore Natural Gas Company (Eastern Shore) tendered for filing a petition for waiver of the North American Energy Standards Board Wholesale Quadrant Standards Electronic Data Interchange processing requirements.

Eastern Shore states that copies of its filing have been mailed to its customers and interested state commissions.

Any person desiring to be heard or to protest said filing should file a motion to intervene or a protest with the Federal Energy Regulatory Commission, 888 First Street, NE., Washington, DC 20426, in accordance with sections 385.214 or 385.211 of the Commission's Rules and Regulations. All such motions or protests must be filed on or before the date as indicated below. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary” (FERRIS). Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: September 17, 2003.

Magalie R. Salas,
Secretary.

[FR Doc. 03-23663 Filed 9-16-03; 8:45 am]

BILLING CODE 6717-01-P